LIBRARY OF CONGRESS

Copyright Royalty Board

37 CFR Part 360

[Docket No. 17-CRB-0012-RM]

Procedural Regulations for the Copyright Royalty Board Regarding Electronic Filing of Claims; Corrections

AGENCY: Copyright Royalty Board (CRB), Library of Congress.

ACTION: Correcting amendment.

SUMMARY: On June 13, 2017, the Copyright Royalty Judges revised their rules regarding filing of claims. That document inadvertently added a requirement that filers of joint DART claims include addresses and email addresses for all claimants. Interested parties filed a petition to amend asking the Judges to remove the requirement because the proposed rule did not include it. This document corrects the final regulations to remove the requirement.

DATES: Effective November 21, 2017.

FOR FURTHER INFORMATION CONTACT: Anita Blaine, CRB Program Specialist, by telephone at (202) 707-7658 or email at crb@loc.gov. Docket: For access to the docket to read background documents, go to eCRB, the Copyright Royalty Board's electronic filing and case management system, at https://app.crb.gov/ and search for docket number 17-CRB-0012-RM.

SUPPLEMENTARY INFORMATION: On August 22, 2017, ASCAP, BMI, SESAC, AARC, and HFA petitioned the Copyright Royalty Judges to amend the rule regarding filing of DART joint claims, 82 FR 27016, because the proposed rule did not discuss a change requiring addresses and email addresses of all claimants listed in joint claims, and the new requirement places a burden upon the petitioning parties that was likely unintended.

The preamble to the proposed rule, 82 FR 14167, addressed the purpose of the revisions to the rules: (1) Changes were necessary due to implementation of an electronic filing system, and (2) consolidation of rules was necessary to streamline the regulations regarding cable and satellite claims. The preamble also stated that the rules regarding DART claims would be relocated, but it did not mention any other changes to the DART rules. In the final rule, the Judges mistakenly added a requirement that filers include in the content of joint DART claims the addresses and email addresses of all listed claimants.

The petitioners argue that if the rule stands they will not be able to file joint claims for their clients because of confidentiality restrictions regarding release of address information. Had the Judges proposed a change in the rule to require addresses and email addresses, the petitioners would have submitted a comment objecting to that requirement.

In light of the fact that the claims filing period for DART starts in less than two months, the Judges do not intend to impose a greater burden on the petitioners than in past filing periods. They remove the requirement for claimant addresses and email addresses from the regulations governing the content of joint DART claims.

List of Subjects in 37 CFR Part 360

Administrative practice and procedure, Cable royalties, Claims, Copyright, Electronic filing, Satellite royalties.

Accordingly, 37 CFR part 360 is corrected by making the following correcting amendments:

PART 360—FILING OF CLAIMS TO ROYALTY FEES COLLECTED UNDER COMPULSORY LICENSE

1. The authority citation for part 360 continues to read as follows:

Authority: 17 U.S.C. 801, 803, 805.

Subpart A also issued under 17 U.S.C. 111(d)(4) and 119(b)(4).

Subpart B also issued under 17 U.S.C. 1007(a)(1).

Subpart C also issued under 17 U.S.C. 111(d)(4), 119(b)(4) and 1007(a)(1).

2. In § 360.22, revise paragraph (e) to read as follows:

§ 360.22 Form and content of claims.

* * * * *

(e) List of claimants. If the claim is a joint claim, it must include the name of each claimant participating in the joint claim. Filers submitting joint claims online through eCRB on behalf of ten or fewer claimants, must list the name of each claimant included in the joint claim directly on the filed joint claim. Filers submitting joint claims on behalf of more than ten claimants must include an Excel spreadsheet listing the name of each claimant included in the joint claim. For joint claims filed by mail or hand delivery, the filer may submit the list containing the name of each claimant included in the joint claim in a single Excel spreadsheet on CD, DVD, or other electronic storage medium.

* * * * *

Dated: November 16, 2017.
Suzanne M. Barnett,
Chief Copyright Royalty Judge.

[FR Doc. 2017-25183 Filed 11-20-17; 8:45 am]

BILLING CODE 1410-72-P